DEPARTMENT OF TRANSPORTATION

Federal Aviation Administration

14 CFR Part 39

[Docket No. 2002-NM-18-AD; Amendment 39-13528; AD 2004-06-02]

RIN 2120-AA64

Airworthiness Directives; Airbus Model A319, A320, and A321 Series Airplanes

AGENCY: Federal Aviation Administration, DOT.

ACTION: Final rule.

SUMMARY: This amendment adopts a new airworthiness directive (AD); applicable to certain Airbus Model A319, A320, and A321 series airplanes; that requires replacing the lower guide rod fittings at the rear passenger doors with improved fittings. This action is necessary to prevent failure of a lower guide rod fitting, which could cause a rear passenger door to jam during opening, delaying an emergency evacuation and resulting in injury to passengers or crew members. This action is intended to address the identified unsafe condition.

DATES: Effective April 22, 2004.

The incorporation by reference of certain publications listed in the regulations is approved by the Director of the Federal Register as of April 22, 2004.

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain Airbus Model A319, A320, and A321 series airplanes, was published in the Federal Register on December 17, 2003 (68 FR 70213). That action proposed to require replacing the upper guide rod fittings at the rear passenger doors with improved fittings.

Comments

Interested persons have been afforded an opportunity to participate in the making of this amendment. Due consideration has been given to the comments received.

Support for the Proposed AD

Three commenters support the proposed AD.

Request To Revise Identification of Affected Parts

One commenter requests that the FAA revise the proposed AD to refer to the correct parts to be replaced. The commenter notes that, while the proposed AD states that it is the upper guide rod fitting on each rear passenger door that must be replaced, Airbus Service Bulletin A320-53-1154, Revision 2, dated March 7, 2003 (which is the applicable source of service information referenced in the proposed AD), refers to the lower guide rod fitting.

We concur with the commenter's request to revise this AD to refer to the lower guide rod fitting instead of the upper. The references to “upper guide rod fitting” in the proposed AD are consistent with the terminology in French airworthiness directive 2001-634(B), dated December 26, 2001, which refers to the original issue of the service bulletin, Airbus Service Bulletin A320-53-1154, dated July 12, 2001. The original issue of the service bulletin erroneously referred to the upper guide rod fitting instead of the lower. We have revised the preamble and body of this final rule to contain the correct terminology. Also, we have revised paragraph (b) of this AD to clarify that replacements, of the lower guide rod fitting only, accomplished per previous revisions of the service bulletin are acceptable for compliance with this AD. We find that these changes do not increase the scope of the AD because the service information referenced in the proposed AD, Airbus Service Bulletin A320-53-1154, Revision 2, contains the correct instructions for accomplishing the required actions.

Request To Extend Compliance Time

One commenter requests that we revise the compliance time for the requirements of this AD from 22 months to 5 years, and suggests that we add repetitive inspections for cracking of the lower guide arm fittings as an interim action until the modification is accomplished. The commenter would like to incorporate this modification into the 5-year heavy maintenance visit for its fleet, and extending the compliance time for the proposed AD would accommodate the commenter's schedule. The commenter states that repetitive inspections for cracking at intervals not to exceed 600 flight hours, and accomplishment of the replacement of the lower guide arm fittings within 5 years, would significantly reduce the possibility of door failure and would not compromise safety.

We do not concur with the commenter's request. The operator did not submit appropriate inspection procedures to justify that its request would adequately ensure an acceptable level of safety. An affected operator may request approval of an alternative method of compliance or adjustment of the compliance time for this AD if the operator also presents data that justify that an acceptable level of safety will be maintained. Paragraph (c) of this AD specifies the office that may approve such requests. We have made no change to the final rule in this regard.

Conclusion

After careful review of the available data, including the comments noted above, the FAA has determined that air safety and the public interest require the adoption of the rule with the change described previously. The FAA has determined that this change will neither increase the economic burden on any operator nor increase the scope of the AD.

Cost Impact

The FAA estimates that 440 airplanes of U.S. registry will be affected by this AD, that it will take approximately 10 work hours per airplane to accomplish the required actions, and that the average labor rate is $65 per work hour. Required parts will cost approximately $2,200 per airplane. Based on these figures, the cost impact of the proposed AD on U.S. operators is estimated to be $1,254,000, or $2,850 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-06-02 Airbus: Amendment 39-13528. Docket 2002-NM-18-AD.

Applicability: Model A319, A320, and A321 series airplanes; certificated in any category; on which Airbus Modification 30821 has not been accomplished.

Compliance: Required as indicated, unless accomplished previously.

To prevent failure of a lower guide rod fitting, which could cause a rear passenger door to jam during opening, delaying an emergency evacuation and resulting in injury to passengers or crew members, accomplish the following:

Replacement

(a) Within 22 months after the effective date of this AD, replace the lower guide rod fitting on each rear passenger door with an improved fitting by doing all actions in and per the Accomplishment Instructions of Airbus Service Bulletin A320-53-1154, Revision 2, dated March 7, 2003.

Replacements Accomplished Previously

(b) Replacements of the lower guide rod fitting accomplished before the effective date of this AD per the Accomplishment Instructions of Airbus Service Bulletin A320-53-1154, dated July 12, 2001; or Revision 1, dated August 28, 2002; are acceptable for compliance with the corresponding action required by this AD.

Alternative Methods of Compliance

(c) In accordance with 14 CFR 39.19, the Manager, International Branch, ANM-116, Transport Airplane Directorate, FAA, is authorized to approve alternative methods of compliance for this AD.

Incorporation by Reference

(d) Unless otherwise specified in this AD, the actions shall be done in accordance with Airbus Service Bulletin A320-53-1154, Revision 2, dated March 7, 2003. This incorporation by reference was approved by the Director of the Federal Register in accordance with 5 U.S.C. 552(a) and 1 CFR part 51. Copies may be obtained from Airbus, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 1: The subject of this AD is addressed in French airworthiness directive 2001-634(B), dated December 26, 2001.

Effective Date

(e) This amendment becomes effective on April 22, 2004.

Issued in Renton, Washington, on March 9, 2004.
Kalene C. Yanamura,
Acting Manager, Transport Airplane Directorate, Aircraft Certification Service.

[FR Doc. 04-5847 Filed 3-17-04; 8:45 am]

BILLING CODE 4910-13-P